DEPARTMENT OF ENERGY

Federal Energy Regulatory Commission

[Docket No. PF04-3-000 and PF04-9-000]

Vista del Sol LNG Terminal LP and Vista del Sol Pipeline LP; Ingleside Energy Center LLC and San Patricio Pipeline LLC; Notice of Intent To Prepare Environmental Impact Statements for the Proposed Vista Del Sol LNG Terminal Project and the Ingleside Energy Center LNG Terminal and Pipeline Project, Request for Comments on Environmental Issues, and Notice of Public Scoping Meeting

May 13, 2004.

The staff of the Federal Energy Regulatory Commission (FERC or Commission) will prepare an environmental impact statement (EIS) that will discuss the environmental impacts of Vista del Sol LNG Terminal LP's and Vista del Sol Pipeline LP's (affiliates of the ExxonMobil Corporation that are collectively referred to as Vista del Sol) proposed Vista del Sol LNG Terminal Project. In addition, the staff of the FERC will prepare a separate EIS that will discuss the environmental impacts of Ingleside Energy Center LLC's and San Patricio Pipeline LLC's (collectively referred to as Ingleside San Patricio) proposed Ingleside Energy Center LNG Terminal and Pipeline Project. This notice explains the scoping process we ¹ will use to gather input from the public and interested agencies on the projects. Your input will help us determine which issues need to be evaluated in each EIS. Please note that the scoping period for both projects will close on June 18, 2004.

¹ “We,” “us,” and “our” refer to the environmental staff of the Office of Energy Projects.

Due to the similarity between the projects, which include geography, potential impacts, and affected parties, we have decided to issue a joint notice. This joint notice eliminates the redundancy and costs of duplicate mailings. In addition, we wish to provide convenience to interested parties by holding a single joint public scoping meeting.

Comments may be submitted by electronic submission, in written form, or verbally. Further details on how to submit comments are provided in the public participation section of this notice. In lieu of sending comments, we invite you to attend the public scoping meeting we have scheduled as follows: Wednesday, June 9, 2004, 7 p.m. (c.s.t.), Vista del Sol LNG Terminal Project, and Ingleside Energy Center LNG Terminal and Pipeline Project, Portland Community Center, 2000 Billy G Webb, Portland, TX 78374, telephone: (361) 777-3301.

In addition, on Wednesday, June 9, 2004, starting at 8 a.m. (c.s.t.), we will be conducting a visit to the Ingleside Energy Center LNG site and along the pipeline route. Anyone interested in participating in the site visit should meet at the lobby of the Comfort Inn, 1703 N Highway 181, Portland, Texas 78374. Participants must provide their own transportation. For additional information, please contact the Commission's Office of External Affairs at (866) 208-FERC (3372).

The FERC will be the lead Federal agency in the preparation of each EIS. The documents will satisfy the requirements of the National Environmental Policy Act (NEPA).

This notice is being sent to affected landowners; Federal, State, and local government agencies; elected officials; environmental and public interest groups; Native American tribes; other interested parties; and local libraries and newspapers. We encourage government representatives to notify their constituents of these planned projects and encourage them to comment on their areas of concern.

Summary of the Proposed Vista del Sol LNG Terminal Project

Vista del Sol proposes to construct and operate an LNG import terminal and a natural gas pipeline to provide a new supply of competitively priced natural gas to Texas and other U.S. domestic markets. The LNG import terminal would be situated between the Sherwin Alumina and DuPont industrial facilities on the La Quinta Ship Channel between Ingleside and Portland, Texas. The proposed pipeline, extending from the LNG terminal to a site near Sinton, Texas, would transport natural gas to market via interconnections with a number of existing interstate and intrastate pipeline systems. The general location of the facilities is shown in appendix 1.² The Vista del Sol LNG Terminal Project would include:

² The appendix referenced in this notice is not being printed in the Federal Register. Copies of the appendix were sent to all those receiving this notice in the mail. Requests for detailed maps of the proposed facilities should be made directly to Vista del Sol (see http://www.vistadelsollng.com for contact information).

• A berthing structure and unloading facilities for LNG carrier ships;

• Three LNG storage tanks, each with a nominal working volume of approximately 160,000 cubic meters (1,006,400 barrels equivalent), surrounded by an earthen barrier;

• Vaporization facilities including water intake and discharge equipment;

• 25 miles of 36-inch-diameter natural gas pipeline; and

• Up to seven interconnects with existing intrastate and interstate pipelines.

Vista del Sol proposes to have the project constructed and operational in mid-2008.

The project would nominally deliver about 1 billion cubic feet of natural gas per day. In the event that additional markets are identified, project facilities could be expanded to increase LNG storage and natural gas delivery capacities. ExxonMobil Corporation and Qatar Petroleum recently signed an agreement to supply about 2 billion cubic feet per day of natural gas as LNG from Qatar to the United States for an expected period of 25 years. Some of this LNG could be used to supply the Vista del Sol terminal.

Summary of the Proposed Ingleside Energy Center LNG Terminal and Pipeline Project

Ingleside San Patricio proposes to construct and operate an LNG terminal and a natural gas pipeline to provide a new supply of competitively priced natural gas to meet the increased demand in the U.S. The proposed terminal site is bounded by the La Quinta Waterway to the south, the Occidental Chemical industrial facility to the west, and the U.S. Navy and a private landowner to the east. The proposed pipeline would extend from the LNG terminal to an interstate interconnection near Sinton, Texas. The general location of the facilities is shown in appendix 1.³ The Ingleside Energy Center LNG Terminal and Pipeline Project would include:

³ The appendix referenced in this notice is not being printed in the Federal Register. Copies of the appendix were sent to all those receiving this notice in the mail. Requests for detailed maps of the proposed facilities should be made directly to Ingleside San Patricio (http://www.inglesideenergycenter.com will be available soon for contact information).

• A berthing structure and unloading facilities for LNG carrier ships;

• Two LNG storage tanks, each with a nominal working volume of approximately 160,000 cubic meters (1,006,400 barrels equivalent);

• Vaporization and natural gas liquids removal equipment;

• 26 miles of 26-inch-diameter natural gas pipeline; and

• Up to 12 interconnects with existing intrastate and interstate pipelines.

The project would have a nominal output of about 1 billion cubic feet of natural gas per day and, as proposed, would be integrated with the adjacent chemical manufacturing complex in order for the two facilities to offset the other's respective heating and cooling needs. The use of the chemical manufacturing complex's cooling water as a source of vaporization heat is expected largely to eliminate air emissions from the terminal and at the same time to conserve approximately two million gallons of fresh water presently used in cooling water evaporation each day.

The EIS Process

The FERC will use the EISs to consider the environmental impact that could result if it issues Vista del Sol and/or Ingleside San Patricio project authorizations under sections 3 and 7 of the Natural Gas Act.

This notice formally announces our preparation of the EISs and invites your input into the process referred to as “scoping.” We are soliciting input from the public and interested agencies to help us focus the analysis in each EIS on the potentially significant environmental issues related to the proposed actions.

Our independent analysis of the issues for each project will be included in each draft EIS. The draft EISs will be mailed to Federal, State, and local government agencies; elected officials; environmental and public interest groups; Native American tribes; affected landowners; other interested parties; local libraries and newspapers; and the FERC's official service lists for these proceedings. A 45-day comment period will be allotted for review of the draft EISs. We will consider all comments on the draft EISs and revise the documents, as necessary, before issuing final EISs.

Although no formal applications have been filed, the FERC staff has already initiated its NEPA review under its NEPA Pre-filing Process. The purpose of the Pre-filing Process is to encourage the early involvement of interested stakeholders and to identify and resolve issues before an application is filed with the FERC.

With this notice, we are asking Federal, State, and local agencies with jurisdiction and/or special expertise with respect to environmental issues to formally cooperate with us in the preparation of the EISs. These agencies may choose to participate once they have evaluated the proposals relative to their responsibilities. Agencies that would like to request cooperating status should follow the instructions for filing comments provided under the Public Participation section of this Notice. Thus far, the U.S. Coast Guard, the Research and Special Programs Administration (Office of Pipeline Safety), and the National Marine Fisheries Service (NOAA Fisheries) have agreed to be cooperating agencies for these projects.

Currently Identified Environmental Issues

Each EIS will discuss impacts that could occur as a result of the construction and operation of the proposed projects. We have already identified several issues that we think deserve attention based on a preliminary review of the project sites and the facility information provided by Vista del Sol and Ingleside San Patricio. This preliminary list of issues may be changed based on your comments and our analysis. The following issues pertain to both projects:

• Dredged material management.

• Potential impacts on water quality from dredging activities.

• Impacts on wetlands and submerged aquatic vegetation.

• Impacts on essential fish habitat and State and/or federally-listed threatened and endangered species at the LNG terminal and along the pipeline route.

• Consistency with coastal zone management guidelines.

• Visual impacts associated with new LNG storage tanks.

• Environmental justice issues associated with the location of the LNG terminal.

• Impact and potential benefits of construction workforce on local housing, infrastructure, public services, and economy.

• Impacts of LNG ship traffic on the Port of Corpus Christi and the Port Aransas ferry schedule.

• Assessment of potential cultural resources at the LNG terminal and along the pipeline route.

• Native American concerns.

• Impacts of construction and operation of the LNG terminal and the natural gas pipeline on local air quality.

• Hazards associated with the transport, unloading, storage, and vaporization of LNG.

• Security associated with LNG ship traffic and an LNG import terminal.

• Alternative sites for the LNG terminal, including offshore sites, and pipeline route alternatives.

• Assessment of the effect of the proposed project when combined with other past, present, or reasonably foreseeable future actions in the project area, including other proposed LNG facilities in Corpus Christi Bay and the proposed Port of Corpus Christi La Quinta Container Terminal.

The following issues have been identified for the Vista del Sol LNG Terminal Project:

• Potential impacts from a thermal (cold water) discharge.

• Impacts on marine life from the seawater intake.

• Alternative LNG vaporization technologies.

Public Participation

You can make a difference by providing us with your specific comments or concerns about the proposals. Your comments should focus on the potential environmental effects, reasonable alternatives (including alternative terminal sites and pipeline routes), and measures to avoid or lessen environmental impact. The more specific your comments, the more useful they will be. To expedite our receipt and consideration of your comments, the Commission strongly encourages electronic submission of any comments on this project. See 18 CFR 385.2001(a)(1)(iii) and the instructions on the Commission's Web site at http://www.ferc.gov under the “e-Filing” link and the link to the User's Guide. Before you can submit comments you will need to create a free account, which can be created by clicking on “Login to File” and then “New User Account.” You will be asked to select the type of submission you are making. This submission is considered a “Comment on Filing.”

If you wish to mail comments, please mail your comments so that they will be received in Washington, DC on or before June 18, 2004, and carefully follow these instructions:

Send an original and two copies of your letter to: Magalie R. Salas, Secretary, Federal Energy Regulatory Commission, 888 First St., NE., Room 1A, Washington, DC 20426;

• Label one copy of your comments for the attention of Gas Branch 3;

• Reference Docket No. PF04-3-000 (Vista del Sol) or PF04-9-000 (Ingleside Energy Center) on the original and both copies.

The public scoping meeting to be held on June 9, 2004, at the Portland Community Center is designed to provide another opportunity to offer comments on the proposed projects. Interested groups and individuals are encouraged to attend the meeting and to present comments on the environmental issues they believe should be addressed in each EIS. A transcript of the meeting will be generated so that your comments will be accurately recorded.

We will include all comments that we receive within a reasonable time frame in our environmental analysis of these projects.

Once Vista del Sol and Ingleside San Patricio formally file their applications with the Commission, you may want to become an official party to the proceedings known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Affected landowners and parties with environmental concerns may be granted intervenor status upon showing good cause by stating that they have a clear and direct interest in this proceeding which would not be adequately represented by any other parties. You do not need intervenor status to have your environmental comments considered.

Availability of Additional Information

Additional information about the projects is available from the Commission(s Office of External Affairs at 1-866-208 FERC (3372) or on the FERC Internet website (http://www.ferc.gov). Using the “eLibrary” link, select “General Search” from the eLibrary menu, enter the selected date range and “Docket Number” (i.e., PF04-3-000 or PF04-9-000), and follow the instructions. Searches may also be done using the phrase (Vista del Sol LNG( or “Ingleside Energy Center” in the (Text Search( field. For assistance with access to eLibrary, the helpline can be reached at (866) 208-3676, TTY (202) 502-8659, or at FERCOnlineSupport@ ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Vista del Sol has established an Internet Web site for its project at http://www.vistadelsollng.com and Ingleside San Patricio will establish an Internet Web site for its project at http://www.inglesideenergycenter.com. The Web sites will include a description of the project, maps of the proposed site, and links to related documents.

Magalie R. Salas,
Secretary.

[FR Doc. E4-1193 Filed 5-20-04; 8:45 am]

BILLING CODE 6717-01-P